DEPARTMENT OF TRANSPORTATION

Federal Aviation Administration

14 CFR Part 39

[Docket No. FAA-2004-19542; Directorate Identifier 2003-NM-282-AD]

RIN 2120-AA64

Airworthiness Directives; Airbus Model A300 B4-622R and A300 F4-622R Airplanes

AGENCY: Federal Aviation Administration (FAA), DOT.

ACTION: Notice of proposed rulemaking (NPRM).

SUMMARY: The FAA proposes to adopt a new airworthiness directive (AD) for certain Airbus Model A300 B4-622R and A300 F4-622R airplanes. This proposed AD would require doing a one-time inspection to determine if lower guide fittings for the forward doors are installed in the correct positions, and corrective action if necessary. This proposed AD is prompted by reports that lower guide fittings for the forward doors were found installed in the wrong positions at frames 14 and 16A. We are proposing this AD to prevent difficulty opening the forward doors, which could impede an emergency evacuation and result in injury to passengers or crewmembers.

DATES: We must receive comments on this proposed AD by December 6, 2004.

ADDRESSES: Use one of the following addresses to submit comments on this proposed AD.

• DOT Docket Web Site: Go to http://dms.dot.gov and follow the instructions for sending your comments electronically.

• Government-wide Rulemaking Web Site: Go to http://www.regulations.gov and follow the instructions for sending your comments electronically.

• Mail: Docket Management Facility, U.S. Department of Transportation, 400 Seventh Street, SW., Nassif Building, room PL-401, Washington, DC 20590.

• By Fax: (202) 493-2251.

• Hand Delivery: Room PL-401 on the plaza level of the Nassif Building, 400 Seventh Street, SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street, SW., room PL-401, on the plaza level of the Nassif Building, Washington, DC.

FOR FURTHER INFORMATION CONTACT: Technical Information: Dan Rodina, Aerospace Engineer, International Branch, ANM-116, FAA, Transport Airplane Directorate, 1601 Lind Avenue, SW., Renton, Washington 98055-4056; telephone (425) 227-2125; fax (425) 227-1149.

Plain Language Information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19542; Directorate Identifier 2003-NM-282-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on certain Airbus Model A300 B4-622R and A300 F4-622R airplanes. The DGAC advises that, during the delivery process of an airplane, lower guide fittings for the forward doors were found installed in the wrong positions at frames 14 and 16A. Inspections on the production line revealed that other airplanes may also have lower guide fittings for the forward doors installed in the wrong positions. This condition, if not corrected, could cause difficulty opening the forward doors, which could impede an emergency evacuation and result in injury to passengers or crewmembers.

Relevant Service Information

Airbus has issued Service Bulletin A300-53-6140, Revision 01, dated November 24, 2003. The service bulletin describes procedures for a detailed visual inspection to determine if lower guide fittings for the forward doors are installed in the correct positions, based on which part number is installed in which location. Corrective action, if any lower guide fitting is installed in the wrong position, includes re-installing the lower guide fitting in the correct position, or replacing the lower guide fitting with a new, improved guide fitting, as applicable. Accomplishing the actions specified in the service information is intended to adequately address the unsafe condition. The DGAC mandated the service information and issued French airworthiness directive 2003-292(B), dated August 6, 2003, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. According to this bilateral airworthiness agreement, the DGAC has kept us informed of the situation described above. We have examined the DGAC's findings, evaluated all pertinent information, and determined that we need to issue an AD for products of this type design that are certificated for operation in the United States.

Therefore, we are proposing this AD, which would require accomplishing the actions specified in the service information described previously, except as discussed under “Difference Between the Proposed AD and Service Information.”

Difference Between the Proposed AD and Service Information

The Accomplishment Instructions of the referenced service bulletin describe procedures for reporting inspection findings to the manufacturer. This proposed AD would not require this.

Clarification of Inspection Terminology

In this proposed AD, the “detailed visual inspection” specified in the Airbus service bulletin is referred to as a “detailed inspection.” We have included the definition for a detailed inspection in a note in this proposed AD.

Costs of Compliance

This proposed AD would affect about 25 airplanes of U.S. registry. The proposed actions would take about 2 work hours per airplane, at an average labor rate of $65 per work hour. Based on these figures, the estimated cost of the proposed AD for U.S. operators is $3,250, or $130 per airplane.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2004-19542; Directorate Identifier 2003-NM-282-AD.

Comments Due Date

(a) The Federal Aviation Administration must receive comments on this AD action by December 6, 2004.

Affected ADs

(b) None.

Applicability: (c) This AD applies to Airbus Model A300 B4-622R airplanes, serial numbers 0797 and 0836; and Model A300 F4-622R airplanes, serial numbers 0805 through 0828 inclusive; certificated in any category.

Unsafe Condition

(d) This AD was prompted by reports that lower guide fittings for the forward doors were found installed in the wrong positions at frames 14 and 16A. We are issuing this AD to prevent difficulty opening the forward doors, which could impede an emergency evacuation and result in injury to passengers or crewmembers.

Compliance: (e) You are responsible for having the actions required by this AD performed within the compliance times specified, unless the actions have already been done.

Inspection and Corrective Action

(f) Within 600 flight hours after the effective date of this AD, do a one-time detailed inspection to determine if lower guide fittings for the forward doors are installed in the correct positions, in accordance with the Accomplishment Instructions of Airbus Service Bulletin A300-53-6140, Revision 01, dated November 24, 2003.

(1) If the lower guide fittings are installed in the correct positions: No further action is required by this AD.

(2) If any lower guide fitting is not installed in the correct position: Before further flight, re-install the lower guide fitting in the correct position, or replace the lower guide fitting with a new, improved guide fitting, as applicable, in accordance with the service bulletin.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Actions Accomplished in Accordance With Previous Issue of Service Bulletin

(g) Inspections and corrective actions accomplished before the effective date of this AD in accordance with Airbus Service Bulletin A300-53-6140, dated June 12, 2003, are considered acceptable for compliance with the corresponding action specified in this AD.

No Reporting Requirement

(h) The Accomplishment Instructions of Airbus Service Bulletin A300-53-6140, Revision 01, dated November 24, 2003, describe procedures for reporting inspection findings to the manufacturer. This AD does not require this.

Alternative Methods of Compliance (AMOCs)

(i) The Manager, International Branch, ANM-116, Transport Airplane Directorate, FAA, has the authority to approve AMOCs for this AD, if requested in accordance with the procedures found in 14 CFR 39.19.

Related Information

(j) French airworthiness directive 2003-292(B), dated August 6, 2003, also addresses the subject of this AD.

Issued in Renton, Washington, on October 27, 2004.
Ali Bahrami,
Manager, Transport Airplane Directorate, Aircraft Certification Service.

[FR Doc. 04-24731 Filed 11-4-04; 8:45 am]

BILLING CODE 4910-13-P